DEPARTMENT OF COMMERCE

National Oceanic and Atmospheric Administration

RIN 0648-XK70

Western Pacific Fishery Management Council; Public Meetings

AGENCY: National Marine Fisheries Service (NMFS), National Oceanic and Atmospheric Administration (NOAA), Commerce.

ACTION: Notice of public meetings and hearings.

SUMMARY: The Western Pacific Fishery Management Council (Council) will hold its 143rd meeting to consider and take actions on fishery management issues in the Western Pacific Region.

DATES: The 143rd Council meeting and public hearings will be held on October 14-17, 2008 in Honolulu, Hawaii. For specific times and the agenda, see SUPPLEMENTARY INFORMATION.

ADDRESSES: The 143rd Council meeting and public hearings will be held at the Pagoda Hotel, 1525 Rycroft Street, Honolulu, Hawaii, 96814; telephone: 808-941-6611.

FOR FURTHER INFORMATION CONTACT: Kitty M. Simonds, Executive Director; telephone: 808-522-8220.

SUPPLEMENTARY INFORMATION: In addition to the agenda items listed here, the Council will hear recommendations from other Council advisory groups. Public comment periods will be provided throughout the agenda. The order in which agenda items are addressed may change. The Council will meet as late as necessary to complete scheduled business.

Schedule and Agenda for Council Standing Committee Meetings

Tuesday October 14, 2008

Standing Committee Meetings

1. 8:00 a.m.-10:00 a.m. Executive and Budget Standing Committee

2. 10:00 a.m.-12:00 noon Program Planning Standing Committee

3. 1:30 p.m.-2:30 p.m. Fishery Rights of Indigenous People Standing Committee

4. 2:30 p.m.-4:30 p.m. Pelagics Ecosystem and International Fisheries Standing Committee

5. 4:30 p.m.-6:30 p.m. Hawaii Archipelago/Pacific Remote Island Areas (PRIA) Standing Committee

The agenda during the full Council meeting will include the items listed here.

Schedule and Agenda for Council Meeting

9:00 a.m. 5:30 p.m. Wednesday October 15, 2008

1. Introductions

2. New Council Members Oath of Office

3. Approval of Agenda

4. Approval of 142nd Meeting Minutes

5. Agency Reports

A. National Marine Fisheries Service (NMFS)

1. Pacific Islands Regional Office (PIRO)

2. Pacific Islands Fisheries Science Center (PIFSC)

B. NOAA General Counsel

C. U.S. Fish and Wildlife Service

D. Enforcement

1. U.S. Coast Guard

2. NOAA Office for Law Enforcement

3. Status of Violations

6. Program Planning

A. Program Planning and Research

1. Annual Catch Limits

2. Small-scale and Traditional Fisheries

3. Council's Five-Year Research Plan

B. Update on Marine Recreational Information Program (MRIP) and National Saltwater Angler Registry

C. National Eco-labeling Initiative

D. Update on Legislation

E. Update on Status of Fishery Management Plan (FMP) actions

F. Community Development Program Amendment Status

G. Coral Reefs

1. Report on U.S. Coral Reef Task Force Meeting

2. Coral Reef Program Review

H. Marine Education and Training Program Selection Process

I. Update on Blue Legacy

J. Social Science Research Planning Committee Report

K. Scientific and Statistical Committee (SSC) Recommendations

L. Standing Committee Recommendations

M. Public Hearing

N. Council Discussion and Action

7. Public Comment on Non-agenda Items

6:00 p.m.-9:00 p.m. Wednesday October 15, 2008

Fishers Forum

I. Welcome and Introductions

II. Richard Shiroma Award Presentation

III. Assessing Historical Changes in the Hawaii Bottomfish Fishery and their Effect on Calculating Catch Per Unit Effort (CPUE)

IV. 2008 Hawaii Bottomfish Stock Assessment

V. Alternatives for Bottomfish Total Allowable Catch (TAC)

VI. Public Hearing

9:00 a.m.-6:00 p.m. Thursday October 16, 2008

8. Hawaii Archipelago and PRIA

A. Moku Pepa

B. Enforcement Issues

C. Hawaii Community Issues

1. Humpback Whale Sanctuary Update

2. Monk Seal Critical Habitat in the Main Hawaiian Islands (MHI)

3. West Hawaii Fisheries Council

4. Aha Kiole Community Consultation Process

5. Green Sea Turtle Biological and Genetic Information/Classification as Distinct Population Segment

6. Other Issues

D. Main Hawaiian Islands Bottomfish

1. CPUE Workshop Report

2. Stock Assessment

3. Recommendation on Total Allowable Catch for 2008/2009 Fishing Season

E. Aquaculture Issues

1. Development of Projects in Hawaii

2. Expansion of Current Aquaculture Projects on Oahu

F. Coral Reef Annual Report Status

G. Education and Outreach Initiatives

H. Hawaii Regional Ecosystem Advisory Committee (REAC) Report

I. SSC Recommendations

J. Standing Committee Recommendations

K. Public Hearing

L. Council Discussion and Action

9. Marianas Archipelago

A. Arongo Falew and Isla Informe

1. Commonwealth of the Northern Marianas Islands (CNMI)

2. Guam

B. Enforcement Issues

1. CNMI

2. Guam

C. Marianas Community Issues

1. Marianas Training Range Complex

2. Lunar Calendar Workshop

3. Report on Guam Mayors' Meeting

4. Report on Guam Village Meetings

5. Guam Indigenous Fishing Rights Legislation

6. CNMI Nearshore Fishery Regulations

7. Other Issues

D. Marine Conservation Plans

1. CNMI

2. Guam

E. Education and Outreach Initiatives

F. Report on Marianas Plan Team Meeting

G. SSC Recommendations

H. Public Comment

I. Council Discussion and Action

10. American Samoa Archipelago

A. Motu Lipoti

B. Enforcement Issues

C. American Samoa Community Issues

1. American Samoa Fishery Development

2. Sale of Tuna Cannery

3. Rose Atoll Management

4. Other Issues

D. Education and Outreach Initiatives

E. Report on American Samoa Advisory Panel Meeting

F. Report on American Samoa Plan Team Meeting

G. SSC Recommendations

H. Public Comment

I. Council Discussion and Action

9:00 a.m. 5:00 p.m. Friday October 17, 2008

11. Pelagic & International Fisheries

A. Pelagics Ecosystem

1. Hawaii Shallow-set Longline Fishery Management

a. NMFS Biological Opinion

b. Draft Supplemental Environmental Impact Statement (DSEIS) Public Comments

2. Fish Aggregating Device (FAD)Fishery Management

3. American Samoa Longline Fishery Management

a. Recommendation on Management Measures to Minimize Turtle Interactions

b. Report of Public Meetings

c. NMFS Biological Opinion

4. Pelagics Fishery Management Plan Vessel Marking Regulations

B. American Samoa and Hawaii Longline Quarterly Reports

C. American Samoa Longline Logbook/Observer Data Analysis

D. International Fisheries

1. Western and Central Pacific Fisheries Commission (WCPFC)

a. Science Committee

b. U.S. Advisory Committee

c. Northern Committee

d. Technical & Compliance Committee

e. Update on WCPFC Rulemaking

2. Inter-American Tropical Tuna Commission (IATTC)

E. SSC Recommendations

F. Standing Committee Recommendations

G. Public Hearing

H. Council Discussion and Action

12. Administrative Matters & Budget

A. Financial Reports

B. Administrative Reports

C. Meetings and Workshops (Calendar)

D. Council Family Changes

E. Standard Operating Procedures and Protocols (SOPP)

1. Status of NMFS SOPP Review

2. Report on Internal Control Review

F. Standing Committee Recommendations

G. Public Comment

H. Council Discussion and Action

13. Other Business

A. Election of Officers

B. Next Meeting

Non-Emergency issues not contained in this agenda may come before the Council for discussion and formal Council action during its 143rd meeting. However, Council action on regulatory issues will be restricted to those issues specifically listed in this document and any regulatory issue arising after publication of this document that requires emergency action under section 305(c) of the Magnuson-Stevens Act, provided the public has been notified of the Council's intent to take action to address the emergency.

Special Accommodations

These meetings are physically accessible to people with disabilities. Requests for sign language interpretation or other auxiliary aids should be directed to Kitty M. Simonds, 808-522-8220 (voice) or (808)522-8226 (fax), at least 5 days prior to the meeting date.

Authority: 16 U.S.C. 1801 et seq.

Dated: September 18, 2008.
Tracey L. Thompson,
Acting Director, Office of Sustainable Fisheries, National Marine Fisheries Service.

[FR Doc. E8-22184 Filed 9-22-08; 8:45 am]

BILLING CODE 3510-22-S